DEPARTMENT OF HEALTH AND HUMAN SERVICES

National Institutes of Health

Draft NTP Monograph on Systematic Review of Traffic-Related Air Pollution and Hypertensive Disorders of Pregnancy; Availability of Document; Request for Comments

AGENCY: National Institutes of Health, HHS.

ACTION: Notice.

SUMMARY: The National Toxicology Program (NTP) announces the availability of the Draft NTP Monograph on Systematic Review of Traffic-Related Air Pollution and Hypertensive Disorders of Pregnancy for public comment. The Office of Health Assessment and Translation (OHAT), Division of the National Toxicology Program (DNTP), National Institute of Environmental Health Sciences (NIEHS), prepared the monograph.

DATES:

Written Public Comment Submission: Deadline is August 7, 2019.

Document Availability: The draft monograph should be available by June 24, 2019, at https://ntp.niehs.nih.gov/go/peer_trap.

ADDRESSES: Written public comments should be submitted electronically at https://ntp.niehs.nih.gov/go/peer_trap.

FOR FURTHER INFORMATION CONTACT: Canden Byrd, 2635 Meridian Parkway, Suite 200, Durham, NC, USA 27713. Phone: (919) 293-1660, Fax: (919) 293-1645, Email: NTP-Meetings@icf.com.

SUPPLEMENTARY INFORMATION: Background: Traffic-related air pollution and hypertensive disorders of pregnancy were selected for review following nomination in July 2012 to evaluate emerging children's health issues associated with ambient air pollution and review by the NTP Board of Scientific Counselors on April 18, 2014. After considering the literature on children's health outcomes, the scope was narrowed to focus on traffic-related air pollution and hypersensitive disorders of pregnancy due to: (1) The significant impact of hypertension in pregnancy on children's health, and (2) a number of recent studies assessing hypertensive outcomes in pregnant women exposed to traffic-related air pollution. Information on NTP's review of traffic-related air pollution and children's health is available at https://ntp.niehs.nih.gov/go/trap.

Request for Comments: NTP invites public comments on the draft monograph that address scientific or technical issues. Guidelines for public comments are available at https://ntp.niehs.nih.gov/ntp/about_ntp/guidelines_public_comments_508.pdf. The deadline for submission of written comments is August 7, 2019. Written public comments should be submitted electronically at https://ntp.niehs.nih.gov/go/peer_trap. Persons submitting written comments should include their name, affiliation, mailing address, phone, email, and sponsoring organization (if any). Written comments received in response to this notice will be posted on the NTP website and the submitter will be identified by name, affiliation, and sponsoring organization (if any). Following the public comment period, the draft monograph will undergo external peer review by letter. Comments that address scientific/technical issues will be shared with external scientists for their consideration during the peer review.

Background Information on OHAT: NTP and NIEHS established OHAT to serve as an environmental health resource to the public and to regulatory and health agencies. The office conducts evaluations to assess the evidence that environmental chemicals, physical substances, or mixtures (collectively referred to as “substances”) cause adverse health effects and provides opinions on whether these substances may be of concern given what is known about current human exposure levels.

The product of an evaluation may be a systematic review, scoping report, interactive evidence map, or workshop report, which may be published as a NTP monograph, NTP technical report, or peer-reviewed journal publication. Information about OHAT is available on the OHAT website (https://ntp.niehs.nih.gov/go/ohat).

Dated: June 13, 2019.
Brian R. Berridge,
Associate Director, National Toxicology Program.

[FR Doc. 2019-13338 Filed 6-21-19; 8:45 am]

BILLING CODE 4140-01-P